SMALL BUSINESS ADMINISTRATION

Merecantile Capital Partners I, L.P. 05/75-0260

Notice is hereby given that Mercantile Capital Partners I, L.P. (Mercantile), 1372 Shermer Road, Northbrook, Illinois, a Federal Licensee under the Small Business Investment Act of 1958, as amended (“Act”) in connection with the financing of a small concern has sought an exemption under Section 312 of the Act and section 107.730 which constitutes Conflicts of Interest under 13 CFR 107.730(2000). Mercantile proposes to provide debt security financing to ITracs Corporation (ITracs), One IBM Plaza, 330 N. Wabash, 40th Floor, Chicago, Illinois. The financing is contemplated for expansion.

The financing is brought under the purview of Sec 107.730(a)(1) of the regulations because Jackson National Life Insurance Company and Mercantile Equity Partners I, L.P. currently own greater than ten percent of ITrac and ITrac is considered an Associate of Mercantile as defined in Sec. 107.50 of the regulations.

Notice is hereby given that any interested person may submit written comments on the transaction to the Associate Administrator for Investments, U.S. Small Business Administration, 409 Third Street SW., Washington, DC 20416.

Dated: August 13, 2001.
Harry Haskins,
Acting Associate Administrator for Investments.

[FR Doc. 01-20829 Filed 8-16-01; 8:45 am]

BILLING CODE 8025-01-P